DEPARTMENT OF AGRICULTURE

National Agricultural Library

Notice of Intent To Seek Approval To Collect Information

AGENCY: Agricultural Research Service, National Agricultural Library, USDA.

ACTION: Notice and request for comments.

SUMMARY: In accordance with the Paperwork Reduction Act of 1995 and Office of Management and Budget (OMB) regulations, this notice announces the National Agricultural Library's intent to request approval for a new information collection to obtain an evaluation of user satisfaction with NAL Internet sites.

DATES: The agency must receive comments on or before November 6, 2007.

ADDRESSES: Address all comments concerning this notice to John Gladstone, Project Manager, 10301 Baltimore Ave., Room 013; Beltsville, MD 20705. Submit electronic comments to jgladsto@nal.usda.gov.

FOR FURTHER INFORMATION CONTACT: John Gladstone, Phone: 301-504-5462; Fax: (301) 504-7473.

SUPPLEMENTARY INFORMATION: Title: Evaluation of User Satisfaction with NAL Internet Sites.

OMB Number: 0518-0040.

Expiration Date: N/A.

Type of Request: Approval for new data collection.

Abstract: This is a request, made by the National Agricultural Library (NAL) Office of the Director (OD), Office of the Associate Director of Information Services, the Office of Management and Budget (OMB) approve, under the Paperwork Reduction Act of 1995, a three year generic clearance for the NAL to conduct user satisfaction research around its Internet sites. This effort is made according to Executive Order 12862 which directs federal agencies that provide significant services directly to the public to survey customers to determine the kind and quality of services they want and their level of satisfaction with existing services.

The National Agricultural Library Internet sites are a vast collection of Web pages created and maintained by component organizations of the NAL. On average, 3.4 million people visit the NAL internet sites per month. All seven of the NAL Information Centers and a dozen special interest collections have established a Web presence with a home page and links to sub-pages that provide information to their respective audiences.

Description of Surveys

The online surveys will be no more than 15 Semantic Differential Scale or multiple choice questions, and no more than 4 open-ended response questions.

Estimate of Burden: Public reporting burden for this collection of information is estimated to average 5 minutes per survey.

Respondents: The agricultural community, USDA personnel and their cooperators, and including public and private users or providers of agricultural information.

Estimated Number of Respondents: 1200 per year.

Estimated Total Annual Burden on Respondents: 100 hours.

Comments are invited on (a) whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble.

Dated: September 13, 2007.
Edward B. Knipling,
Administrator, ARS.

[FR Doc. E7-19213 Filed 9-27-07; 8:45 am]

BILLING CODE 3410-03-P